DEPARTMENT OF HEALTH AND HUMAN SERVICES

National Institutes of Health

Center for Scientific Review; Amended Notice of Meeting

Notice is hereby given of a change in the meeting of the Center for Scientific Review Special Emphasis Panel, November 2, 2006, 8:30 a.m. to November 3, 2006, 5 p.m., Jurys Washington Hotel, 1500 New Hampshire Ave., NW., Washington, DC, 20036 which was published in the Federal Register on October 16, 2006, 71 FR 60744-60746.

The meeting will be held one day only November 2, 2006. The meeting time and location remain the same. The meeting is closed to the public.

Dated: October 27, 2006.
Anna Snouffer,
Acting Director, Office of Federal Advisory Committee Policy.

[FR Doc. 06-9031 Filed 11-2-06; 8:45 am]

BILLING CODE 4140-01-M